DEPARTMENT OF THE INTERIOR

National Park Service

Notice of Inventory Completion: Oregon State Museum of Anthropology, University of Oregon, Eugene, OR

AGENCY: National Park Service, Interior.

ACTION: Notice.

Notice is here given in accordance with the Native American Graves Protection and Repatriation Act (NAGPRA), 25 U.S.C. 3003, of the completion of an inventory of human remains and associated funerary objects in the possession of the Oregon State Museum of Anthropology, University of Oregon, Eugene, OR. The human remains and associated funerary objects are from the Kawumkan Springs Midden, Klamath County, OR.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by Oregon State Museum of Anthropology professional staff in consultation with representatives of the Klamath Indian Tribe of Oregon.

In 1949, human remains representing a minimum of 19 individuals were removed from the Kawumkan Springs Midden, Klamath County, OR, during legally authorized excavations by University of Oregon staff archeologists. The museum accessioned the human remains into the collection the same year. No known individuals were identified. The nine associated funerary objects are three pestles or atlatl weights, two fleshers, one mano, one wolf mandible, one projectile point foreshaft, and one stone point that may have contributed to the associated individual’s death.

Historical documents, ethnographic sources, and oral history indicate that Klamath peoples have occupied this area of south-central Oregon since precontact times. Based on archeological context, the 19 individuals described above were determined to be Native American, of probable Klamath cultural affiliation.

Officials of the Oregon State Museum of Anthropology have determined that, pursuant to 25 U.S.C. 3001 (9-10), the human remains described above represent the physical remains of 19 individuals of Native American ancestry. Officials of the Oregon State Museum of Anthropology also have determined that, pursuant to 25 U.S.C. 3001 (3)(A), the nine objects described above are reasonably believed to have been placed with or near individual human remains at the time of death or later as part of the death rite or ceremony. Lastly, officials of the Oregon State Museum of Anthropology have determined that, pursuant to 25 U.S.C. 3001 (2), there is a relationship of shared group identity that can be reasonably traced between these Native American human remains and associated funerary objects and the Klamath Indian Tribe of Oregon.

Representatives of any other Indian tribe that believes itself to be culturally affiliated with these human remains and associated funerary objects should contact C. Melvin Aikens, Oregon State Museum of Anthropology, 1224 University of Oregon, Eugene, OR 97403-1224, telephone (541) 346-5115, before September 15, 2003. Repatriation of the human remains and associated funerary objects to the Klamath Indian Tribe of Oregon may proceed after that date if no additional claimants come forward.

The Oregon State Museum of Anthropology is responsible for notifying the Klamath Indian Tribe of Oregon that this notice has been published.

Dated: July 2, 2003.
John Robbins,
Assistant Director, Cultural Resources.

[FR Doc. 03-20756 Filed 8-13-03; 8:45 am]

BILLING CODE 4310-70-S